DEPARTMENT OF HOMELAND SECURITY

Office of the Secretary

Privacy Act of 1974; Retirement of System of Records

AGENCY: Privacy Office, DHS.

ACTION: Notice of the retirement of one Privacy Act system of records notice.

SUMMARY: In accordance with the Privacy Act of 1974, the Department of Homeland Security is giving notice that it proposes to retire the following Privacy Act system of records notice, Treasury/CS.064 (October 18, 2001), from its inventory of record systems and rely upon the Government-wide system of records notice issued by the General Services Administration, GSA/GOVT-6 GSA SmartPay Purchase Charge Card Program (November 3, 2006), which is written to cover all Federal government purchase charge card record systems.

DATES: These changes will take effect on December 15, 2008.

FOR FURTHER INFORMATION CONTACT: Hugo Teufel III, Chief Privacy Officer, Department of Homeland Security, Washington, DC 20528, by telephone (703) 235-0780 or facsimile (703) 235-0442.

SUPPLEMENTARY INFORMATION: Pursuant to the provisions of the Privacy Act of 1974, 5 U.S.C. 552a, and as part of its ongoing integration and management efforts, the Department of Homeland Security (DHS) is retiring the system of records notice, Treasury/CS.064 Purchase Card Files (66 FR 52984 October 18, 2001), that was issued by the Customs Service, Department of the Treasury prior to the creation of the Department of Homeland Security.

DHS will continue to collect and maintain records regarding individuals who are in possession of Department purchase cards and will rely upon the existing Federal Government-wide system of records notice titled GSA/GOVT-6 GSA SmartPay Purchase Charge Card Program (71 FR 64707 November 3, 2006), which is written to cover all Federal purchase charge card record systems.

Eliminating this notice will have no adverse impacts on individuals, but will promote the overall streamlining and management of DHS Privacy Act record systems.

Hugo Teufel III,
Chief Privacy Officer, Department of Homeland Security.

[FR Doc. E8-27096 Filed 11-13-08; 8:45 am]

BILLING CODE 4410-10-P